DEPARTMENT OF LABOR

Employment and Training Administration

[TA-W-36,809]

Bayer Diagnostics, Oberlin, Ohio, Including Leased Workers of Adecco Employment Services, Inc., Elyria, Ohio, Aerotek, Cleveland, Ohio, Cleveland Business Consultant, Cleveland, Ohio, Compuware Corp., Detroit, Michigan, Exclusive Search Consultant, Euclid, Ohio, Reserves Network, Pasadena, California, Manpower Temporary Services, Elyria, Ohio, Kelly Services, Inc., Amherst Ohio, Keybase, Cleveland, Ohio, Lab Support, Independence, Ohio, Mac Temps, Independence, Ohio, Milko Tech, Inc., Solon, Ohio, Onsite Commercial Staffing, Seven Hills, Ohio, Rad-Com, Inc., Stow, Ohio and Tech Aid, Willoughby Hills, Ohio; Amended Certification Regarding Eligibility To Apply for Worker Adjustment Assistance

In accordance with Section 223 of the Trade Act of 1974 (19 U.S.C. 2273) the Department of Labor issued a Certification of Eligibility to Apply for Worker Adjustment Assistance on December 16, 1999, applicable to workers of Bayer Diagnostics, Oberlin, Ohio. The notice was published in the Federal Register on January 14, 2000 (65 FR 2432).

At the request of the company, the Department reviewed the certification for workers of the subject firm. Information provided by the company shows that some employees of Bayer Diagnostics were leased from several temporary agencies to produce medical diagnostic instrumentation used in hospital labs at the Oberlin, Ohio facility. Worker separations occurred at these companies as a result of worker separations at Bayer Diagnostics, Oberlin, Ohio.

Based on these findings, the Department is amending the certification to include workers of Adecco Employment Services, Inc., Aerotek, Cleveland Business Consultant, Compuware Corp., Exclusive Search Consultant, Kelly Services, Keybase, Lab Support, Mac Temps, Manpower Temporary Services, Milko Tech, Inc., Onsite Commercial Staffing, Rad-Com, Inc., Reserves Network, and Tech Aid leased to Bayer Diagnostics, Oberlin, Ohio.

The intent to the Department's certification is to include all workers of Bayer Diagnostics, Oberlin, Ohio adversely affected by imports.

The amended notice applicable to TA-W-36,809 is hereby issued as follows:

“All workers of Bayer Diagnostics, Oberlin, Ohio and leased workers of Adecco Employment Services, Aerotek, Cleveland Business Consultant, Compuware Corp., Exclusive Search Consultant, Kelly Services, Inc., Keybase, Lab Support, Mac Temps, Manpower Temporary Services, Milko Tech, Inc., Onsite Commercial Staffing, Rad-Com, Inc., Reserves Network and Tech Aid engaged in employment related to the production of medical diagnostic instrumentation used in hospital labs for Bayer Diagnostics, Oberlin, Ohio who became totally or partially separated from employment on or after August 26, 1998 through December 16, 2001 are eligible to apply for adjustment assistance under Section 223 of the Trade Act of 1974.”

Signed at Washington, DC this 6th day of April, 2000.
Grant D. Beale,
Program Manager, Division of Trade Adjustment Assistance.

[FR Doc. 00-9524 Filed 4-14-00; 8:45 am]

BILLING CODE 4510-30-M